SMALL BUSINESS ADMINISTRATION

[Disaster Declaration #14474 and #14475]

California Disaster Number CA-00238

AGENCY: U.S. Small Business Administration.

ACTION: Amendment 1.

SUMMARY: This is an amendment of the Presidential declaration of a major disaster for the State of California (FEMA-4240-DR), dated 09/22/2015.

Incident: Valley Fire and Butte Fire.

Incident Period: 09/09/2015 and continuing.

Effective Date: 09/23/2015.

Physical Loan Application Deadline Date: 11/23/2015.

EIDL Loan Application Deadline Date: 06/22/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of California, dated 09/22/2015 is hereby amended to re-establish the incident period for this disaster as beginning 09/09/2015 and continuing. The disaster declaration is also amended to include the Butte Fire in the incident description.

All other information in the original declaration remains unchanged.

(Catalog of Federal Domestic Assistance Numbers 59002 and 59008)

James E. Rivera,
Associate Administrator for Disaster Assistance.

[FR Doc. 2015-24992 Filed 9-30-15; 8:45 am]

BILLING CODE 8025-01-P